DEPARTMENT OF COMMERCE

National Oceanic and Atmospheric Administration

RIN 0648-XA845

International Affairs; U.S. Fishing Opportunity in the Northwest Atlantic Fisheries Organization Regulatory Area

AGENCY: National Marine Fisheries Service (NMFS), National Oceanic and Atmospheric Administration (NOAA), Commerce.

ACTION: Notification of U.S. fishing opportunity.

SUMMARY: NMFS announces a U.S. fishing opportunity for 1,000 mt yellowtail flounder in Division 3LNO of the Northwest Atlantic Fisheries Organization (NAFO) Regulatory Area during 2011. This action is necessary to make available this U.S. fishing opportunity on an equitable basis.

DATES: Expressions of interest regarding NAFO Division 3LNO yellowtail flounder will be accepted through December 13, 2011. Fishing operations must take place during 2011.

ADDRESSES: Expressions of interest regarding NAFO Division 3LNO yellowtail flounder should be made in writing to Patrick E. Moran in the NMFS Office of International Affairs, at 1315 East-West Highway, Silver Spring, MD 20910 (phone: (301) 427-8370, fax: (301) 713-2313, email: Pat.Moran@noaa.gov).

Information relating to NAFO fish quotas, NAFO Conservation and Enforcement Measures, and the High Seas Fishing Compliance Act (HSFCA) Permit is available from Douglas Christel, at the NMFS Northeast Regional Office at 55 Great Republic Drive, Gloucester, MA 01930 (phone: (978) 281-9141, fax: (978) 281-9135, email: douglas.christel@noaa.gov) and from NAFO on the World Wide Web at http://www.nafo.int.

FOR FURTHER INFORMATION CONTACT: Patrick E. Moran, (301) 427-8370.

SUPPLEMENTARY INFORMATION:

Background

NAFO has established and maintains conservation measures in its Regulatory Area that include one effort limitation fishery as well as fisheries with total allowable catches (TACs) and member nation quota allocations. The principal species managed are cod, flounder, redfish, American plaice, halibut, hake, capelin, shrimp, skates and squid. The United States currently receives no yellowtail flounder allocation from NAFO. However, as the result of a bilateral arrangement with Canada, the United States may request a transfer of up to 1,000 mt of NAFO Division 3LNO yellowtail flounder from Canada's quota allocation for use by U.S. vessels during 2011, or any succeeding year through 2017. In January 2011, this fishing opportunity was announced in the Federal Register and two U.S. vessels were subsequently identified to harvest the fish during 2011. Due to changing economic and other circumstances, these vessels will now be unable to fish during 2011. New procedures for obtaining NMFS authorization to fish for NAFO Division 3LNO yellowtail are specified below.

U.S. Fishing Vessel Applicants

Expressions of interest to fish 1,000 mt of yellowtail flounder in NAFO Division 3LNO will once again be considered from U.S. vessels in possession of, or eligible for, a valid HSFCA permit, which is available from the NMFS Northeast Regional Office (see ADDRESSES). All expressions of interest should be directed in writing to Patrick E. Moran (see ADDRESSES). Letters of interest from U.S. vessel owners should include the name, registration, and home port of the applicant vessel as required by NAFO in advance of fishing operations. In addition, any available information on dates of fishing operations should be included. To ensure equitable access by U.S. vessel owners, NMFS may promulgate regulations designed to choose one or more U.S. applicants from among expressions of interest.

Note that vessels issued valid HSFCA permits under 50 CFR part 300 are exempt from multispecies permit, mesh size, effort-control, and possession limit restrictions, specified in 50 CFR 648.4, 648.80, 648.82 and 648.86, respectively, while transiting the U.S. exclusive economic zone (EEZ) with multispecies on board the vessel, or landing multispecies in U.S. ports that were caught while fishing in the NAFO Regulatory Area, provided:

1. The vessel operator has a letter of authorization issued by the Regional Administrator on board the vessel;

2. For the duration of the trip, the vessel fishes, except for transiting purposes, exclusively in the NAFO Regulatory Area and does not harvest fish in, or possess fish harvested in, or from, the U.S. EEZ;

3. When transiting the U.S. EEZ, all gear is properly stowed in accordance with one of the applicable methods specified in § 648.23(b); and

4. The vessel operator complies with the HSFCA permit and all NAFO conservation and enforcement measures while fishing in the NAFO Regulatory Area.

NAFO Conservation and Management Measures

Relevant NAFO Conservation and Enforcement Measures include, but are not limited to, maintenance of a fishing logbook with NAFO-designated entries; adherence to NAFO hail system requirements; presence of an on-board observer; deployment of a functioning, autonomous vessel monitoring system; and adherence to all relevant minimum size, gear, bycatch, and other requirements. Further details regarding these requirements are available from the NMFS Northeast Regional Office, and can also be found in the current NAFO Conservation and Enforcement Measures on the Internet (see ADDRESSES).

Chartering Operations Using Canadian Vessels

In the event that no adequate expressions of interest in harvesting NAFO Division 3LNO yellowtail flounder during 2011 are made on behalf of U.S. vessels, expressions of interest will be considered from U.S. processors and other fishing interests intending to make use of a Canadian vessel under a chartering arrangement. Under the bilateral arrangement with Canada, the United States may enter into a chartering (or other) arrangement with a Canadian vessel to harvest the transferred yellowtail flounder. Prior notification to the NAFO Executive Secretary is necessary in this case. Expressions of interest from U.S. processors and other fishing interests intending to make use of a Canadian vessel under chartering arrangements should provide the following information: the name and registration number of the intended vessel; a copy of the charter; a detailed fishing plan, and a written letter of consent from the Department of Fisheries and Oceans, Canada. In addition, expressions of interest using a Canadian vessel under charter should be accompanied by a detailed description of anticipated benefits to the United States. Such benefits might include, but are not limited to, the use of U.S. processing facilities/personnel; the use of U.S. fishing personnel; marketing of the product in the United States; other specific positive effects on U.S. employment; evidence that fishing by the Canadian vessel will actually take place; and any available documentation of the physical characteristics and economics of the fishery for future use by the U.S. fishing industry.

Any Canadian vessel wishing to enter into a chartering arrangement with the United States must be in full current compliance with the requirements outlined in the NAFO Convention and Conservation and Enforcement Measures including, but not limited to, submission of the following reports to the NAFO Executive Secretary: provisional monthly catches within 30 days following the calendar month in which the catches were made; observer reports within 30 days following the completion of a fishing trip; and an annual statement of actions taken in order to comply with the NAFO Convention; and notification to NMFS of the termination of the charter fishing activities. Furthermore, the United States may also consider the vessel's previous compliance with NAFO bycatch, reporting and other provisions, as outlined in the NAFO Conservation and Enforcement Measures, before entering into a chartering arrangement. More details on NAFO requirements are available from NMFS (see ADDRESSES).

In the event that multiple expressions of interest are made by U.S. fishing vessels, processors, or interests to fish for NAFO Division 3LNO yellowtail in 2011, the information submitted regarding benefits to the United States will be used in making a selection. After reviewing all requests for allocations submitted, NMFS may decide not to grant any allocations if it is determined that no requests meet the criteria described in this notice. Once a decision has been made regarding the disposition of the fishing opportunity, NMFS will immediately take appropriate steps to notify all applicants and will contact Canada and NAFO to take appropriate action. If the 3LNO yellowtail flounder transferred from Canada is awarded to a U.S. vessel or a specified chartering operation during 2011, it may not be transferred without the express, written consent of NMFS.

Dated: November 22, 2011.
Rebecca Lent,
Director, Office of International Affairs, National Marine Fisheries Service.

[FR Doc. 2011-30520 Filed 11-25-11; 8:45 am]

BILLING CODE 3510-22-P